FEDERAL COMMUNICATIONS COMMISSION

47 CFR Part 73

[DA 14-1611]

Radio Broadcasting Services; Various Locations

AGENCY: Federal Communications Commission.

ACTION: Final rule.

SUMMARY: The Audio Division amends the FM Table of Allotments to remove certain vacant FM allotments that were auctioned in FM Auction 94 that are currently considered authorized stations. We are also removing certain vacant allotments that were auctioned in FM Auction 79, FM Auction 91 and FM Auction 93 that are currently considered authorized stations. FM assignments for authorized stations and reserved facilities will be reflected solely in Media Bureau's Consolidated Database System (CDBS).

DATES: Effective November 21, 2014.

FOR FURTHER INFORMATION CONTACT: Rolanda F. Smith, Media Bureau, (202) 418-2700.

SUPPLEMENTARY INFORMATION: This is a summary of the Report and Order, DA 14-1611, adopted November 5, 2014, and released November 6, 2014. The full text of this document is available for inspection and copying during normal business hours in the Commission's Reference Center 445 12th Street SW., Washington, DC 20554. The complete text of this document may also be purchased from the Commission's duplicating contractor, Best Copy and Printing, Inc., 445 12th Street SW., Room CY-B402, Washington, DC, 20054, telephone 1-800-378-3160 or www.BCPIWEB.com. The Commission will not send a copy of this Report and Order pursuant to the Congressional Review Act, see 5 U.S.C. 801(a)(1)(A), because the adopted rules are rules of particular applicability. This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Amend § 73.202(b), the Table of FM Allotments, as follows:

a. Remove Frisco City, under Alabama, Channel 278A.

b. Remove Fredonia, under Arizona, Channel 278C1; Leupp, Channel 293C2; McNary, Channel 249C1; Paulden, Channel 228C3; Channel 281C3 at Peach Springs; and Channel 290C2 at Quartzsite.

c. Remove Bearden, under Arkansas, Channel 224A and Lake Village, Channel 278C3.

d. Remove Alturas, under California, Channel 268C1 and Channel 277C; Amboy, Channel 284A; Cambria, Channel 293A; Greenfield, Channel 254A; Mecca, Channel 274A; Mojave, Channel 255A; Murrieta, Channel 281A; San Joaquin, Channel 299A; and Wasco, Channel 224A.

e. Remove Channel 289A, under Colorado, at Steamboat Springs.

f. Remove Lake Park, under Florida, Channel 262A and Silver Springs Shore, Channel 259A.

g. Remove Americus, under Georgia, Channel 295A; Homerville, Channel 246A; Plains, Channel 290A; and St. Simons Island, Channel 229C3.

h. Remove Altamont, under Illinois, Channel 288A; Cuba, Channel 252A; and West Salem, Channel 266A.

i. Remove Americus, under Kansas, Channel 240A and Atwood, Channel 292C0.

j. Remove Anacoco, under Louisiana, Channel 276C3; Harrisonburg, Channel 232A; and Oil City, Channel 285A.

k. Remove Harrison, under Michigan, Channel 280A and Ludington, Channel 242A.

l. Remove Channel 245C0 under Minnesota at Grand Portage.

m. Remove Vardaman, under Mississippi, Channel 258A.

n. Remove Bunker, under Missouri, Channel 292C3 and Eminence, Channel 281A.

o. Remove Cut Bank, under Montana, Channel 265C1.

p. Remove Cloudcroft, under New Mexico, Channel 250C1; Taos, Channel 288A; and Taos Pueblo, Channel 292C3.

q. Remove Coalgate, under Oklahoma, Channel 242A; Holdenville, Channel 265A; Mooreland, Channel 254A; Okeene, Channel 268C3; Ringwood, Channel 285A; Savanna, Channel 275A; Tipton, Channel 233C3; and Waynoka, Channel 231C2.

r. Remove Gearhart, under Oregon, Channel 227A; Ione, Channel 258A; Monument, Channel 280C1; and Prairie City, Channel 272C.

s. Remove Edgemont, under South Dakota, Channel 289C1 and Rosebud, Channel 257C.

t. Remove Bangs, under Texas, Channel 250C3; Big Lake, Channel 296C2; Comanche, Channel 280A; Crowell, Channel 255C3; Dalhart, Channel 261C; Channel 283A at Encino; Freer, Channel 288A; Channel 284A at Junction; Kermit, Channel 229A; Markham, Channel 283A; Mertzon, Channel 278C2; Premont, Channel 287A; Robert Lee, Channel 289A; Santa Anna, Channel 282A; and Sonora, Channel 237C3 and Channel 272A.

u. Remove Beaver, under Utah, Channel 259A.

v. Remove Sedro-Woolley, under Washington, Channel 289A and Sequim, Channel 237A.

w. Remove Marlinton, under West Virginia, Channel 292A.

x. Remove Tigerton, under Wisconsin, Channel 295A.

y. Remove Wheatland, under Wyoming, Channel 286A.

[FR Doc. 2014-27535 Filed 11-20-14; 8:45 am]

BILLING CODE 6712-01-P